DEPARTMENT OF ENERGY

Federal Energy Regulatory Commission

Combined Notice of Filings #1

September 20, 2005.

Take notice that the Commission received the following electric rate filings:

Docket Numbers: ER01-2317-005.

Applicants: Metro Energy, L.L.C.

Description: Metro Energy, LLC submits revisions to its tariff to comply with the change in status reporting requirements provision of Order 652.

Filed Date: 09/06/2005.

Accession Number: 20050908-0127.

Comment Date: 5 p.m. eastern time on Friday, September 30, 2005.

Docket Numbers: ER04-902-003.

Applicants: Oklahoma Gas and Electric Company.

Description: Oklahoma Gas & Electric Co submits a revised copy of its Rate Schedule No. 126 to comply with Order No. 614.

Filed Date: 09/13/2005.

Accession Number: 20050915-0010.

Comment Date: 5 p.m. eastern time on Tuesday, October 04, 2005.

Docket Numbers: ER05-1018-001.

Applicants: Midwest Independent Transmission System Operator.

Description: The Midwest Independent Transmission System Operator, Inc submits a Large Generator Interconnection Agreement among PPM Energy, Inc, Midwesy ISO and Northern States Power Co dba Xcel Energy.

Filed Date: 09/13/2005.

Accession Number: 20050915-0215.

Comment Date: 5 p.m. eastern time on Tuesday, October 04, 2005.

Docket Numbers: ER05-1036-001.

Applicants: Midwest Independent Transmission System Operator, Inc.

Description: Midwest Independent Transmission System Operator, Inc submits the Large Generator Interconnection Agreement among Fenton Power Partners I, LLC and Northern States Power Co dba Xcel Energy pursuant to FERC's July 15 Order.

Filed Date: 09/13/2005.

Accession Number: 20050915-0009.

Comment Date: 5 p.m. eastern time on Tuesday, October 04, 2005.

Docket Numbers: ER05-814-000.

Applicants: Wabash Valley Power Association, Inc.

Description: Wabash Valley Power Association, Inc advises that it is submitting a requests to withdraw its filing.

Filed Date: 09/02/2005.

Accession Number: 20050915-0217.

Comment Date: 5 p.m. eastern time on Friday, September 23, 2005.

Docket Numbers: ER98-4095-005; ER99-1764-006; ER05-98-002.

Applicants: Carr Street Generating Station, L.P.; Erie Boulevard Hydropower, L.P.; Brascan Power St., Lawrence River LLC.

Description: Carr Street Generating Station, LP et al. submitted a consolidated updated market power analysis.

Filed Date: 09/14/2005.

Accession Number: 20050916-0142.

Comment Date: 5 p.m. eastern time on Wednesday, October 05, 2005.

Docket Numbers: ER05-969-001.

Applicants: Midwest Independent Transmission System Operator, Inc.

Description: Midwest Independent Transmission System Operator, Inc submits the Large Generator Interconnection Agreement with Northern States Power Co dba Xcel Energy pursuant to the Commission's July 15th Order.

Filed Date: 09/13/2005.

Accession Number: 20050915-0011.

Comment Date: 5 p.m. eastern time on Tuesday, October 04, 2005.

Any person desiring to intervene or to protest in any of the above proceedings must file in accordance with Rules 211 and 214 of the Commission's Rules of Practice and Procedure (18 CFR 385.211 and § 385.214) on or before 5 p.m. eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed docket(s). For assistance with any FERC Online service, please e-mail FERCOnlineSupport@ferc.gov. or call (866) 208-3676 (toll free). For TTY, call (202) 502-8659.

Magalie R. Salas,
Secretary.

[FR Doc. E5-5253 Filed 9-27-05; 8:45 am]

BILLING CODE 6717-01-P